DEPARTMENT OF ENERGY

[Docket No. PP-89-1]

Application To Amend Presidential Permit; Bangor Hydro-Electric Company

AGENCY: Office of Fossil Energy, DOE.

ACTION: Notice of application.

SUMMARY: Bangor Hydro-Electric Company (BHE) has applied to amend Presidential Permit PP-89 that authorized the construction, operation, maintenance, and connection of a single-circuit, 345,000-volt (345-kV) alternating current (AC) electric transmission line across the U.S. border with Canada.

DATES: Comments, protests or requests to intervene must be submitted on or before November 28, 2003.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Ellen Russell or Xavier Puslowski (Program Office) (202) 586-9624 or (202) 586-4708 or Michael Skinker (Program Attorney) (202) 586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On January 22, 1996, the U.S. Department of Energy (DOE) issued Presidential Permit PP-89 authorizing BHE to construct, operate, maintain, and connect a 345-kV electric transmission line that extends approximately 83-miles from the U.S.-Canada border at Baileyville, Maine, to Orrington, Maine. At the Canadian border, the proposed transmission line was to connect to similar facilities to be built by New Brunswick Electric Power Commission (NB Power), a Crown corporation of Canada's Province of New Brunswick. The authorized facilities were not constructed.

On September 30, 2003, BHE applied to the Office of Fossil Energy (FE) of DOE to amend Presidential Permit PP-89. Since the issuance of PP-89, a natural gas transmission line has been constructed by Maritimes and Northeast Pipeline, L.L.C. in the same general vicinity as the BHE project in a corridor approved by Maine's Department of Environmental Protection. Now the Board of Environmental Protection, Maine's primary environmental review entity, has indicated to BHE its preference for BHE to construct the proposed electric transmission line in a corridor more closely consolidated with that of the natural gas line.

The international transmission line now proposed by BHE would be a single circuit 345-kV AC transmission line consisting of two overhead shield wires and three phases with two conductors per phase. The transmission line is proposed to have a thermal capacity of at least 1,000 megawatts (MW). From the U.S.-Canada border near Baileyville, Maine, the proposed transmission line would continue approximately 80 miles to an existing substation in Orrington, Maine. In Canada, the BHE facilities would interconnect with similar facilities to be owned by New Brunswick Power Corporation and continue approximately 60 miles to Point Lepreau, New Brunswick. Canada's National Energy Board authorized construction of these facilities in May 2003.

Since the restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities constructed pursuant to Presidential permits to provide access across the border in accordance with the principles of comparable open access and non-discrimination contained in the FPA and articulated in Federal Energy Regulatory Commission Order No. 888, as amended (Promoting Wholesale Competition Through Open Access Non-Discriminatory Transmission Services by Services by Public Utilities). In furtherance of this policy, DOE intends to condition any Presidential permit issued in this proceeding on compliance with these open access principles.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Additional copies of such petitions to intervene or protests also should be filed directly with: Mr. Robert Bennett, Bangor Hydro Electric Co., 33 State Street, P.O. Box 920, Bangor, ME 04402-0920; and Mr. Jim Connors, Esq., Emera, Inc., 1894 Barrington Street, Barrington Tower, Halifax, Nova Scotia, Canada B3J2A8.

Before a Presidential permit may be issued or amended, the DOE must determine that the proposed action will not adversely impact on the reliability of the U.S. electric power supply system. In addition, DOE must consider the environmental impacts of the proposed action (i.e., granting the Presidential permit with any conditions and limitations, or denying it) pursuant to the National Environmental Policy Act of 1969. DOE also must obtain the concurrence of the Secretary of State and the Secretary of Defense before taking final action on a Presidential permit application.

The NEPA compliance process is a cooperative, non-adversarial process involving members of the public, state governments and the Federal government. The process affords all persons interested in or potentially affected by the environmental consequences of a proposed action an opportunity to present their views, which will be considered in the preparation of the Environmental documentation for the proposed action. Intervening and becoming a party to this proceeding will not create any special status for the petitioner with regard to the NEPA process. Notice of upcoming NEPA activities and information on how the public can participate in those activities will appear in the Federal Register.

Copies of this application will be made available, upon request, for public inspection and copying at the address provided above. In addition, the application may be reviewed or downloaded from the Fossil Energy home page at http://www.fe.doe.gov. Upon reaching the Fossil Energy Home page, select “Electricity Regulation,” and then “Pending Proceedings” from the options menus.

Issued in Washington, DC, on October 22, 2003.
Anthony J. Como,
Deputy Director, Electric Power Regulation, Office of Coal & Power Import/Export, Office of Coal & Power Systems, Office of Fossil Energy.

[FR Doc. 03-27233 Filed 10-28-03; 8:45 am]

BILLING CODE 6450-01-P